POSTAL SERVICE

Market Test of “Samples Co-Op Box” Experimental Product

AGENCY: Postal Service™.

ACTION: Notice.

SUMMARY: The Postal Service gives notice of a market test of an experimental product in accordance with statutory requirements.

DATES: April 2, 2010.

FOR FURTHER INFORMATION CONTACT: Nabeel Cheema, 202-268-7178.

SUPPLEMENTARY INFORMATION: The United States Postal Service® hereby gives notice pursuant to 39 U.S.C. 3641(c)(1) that it will begin a market test of its “Samples Co-Op Box” experimental product on May 1, 2010. The Postal Service has filed with the Postal Regulatory Commission a notice setting out the basis for the Postal Service's determination that the market test is covered by 39 U.S.C. 3641 and describing the nature and scope of the market test. Documents are available at http://www.prc.gov, Docket No. MT2010-1.

Stanley F. Mires,
Chief Counsel, Legislative.

[FR Doc. 2010-7507 Filed 4-1-10; 8:45 am]

BILLING CODE 7710-12-P